NUCLEAR REGULATORY COMMISSION

[Docket Nos. 50-271 and 72-59; NRC-2018-0179]

Entergy Nuclear Operations, Inc.; Vermont Yankee Nuclear Power Station

AGENCY: Nuclear Regulatory Commission.

ACTION: Exemption; issuance.

SUMMARY: The U.S. Nuclear Regulatory Commission (NRC) has issued an exemption in response to a May 24, 2018, request from Entergy Nuclear Operations, Inc., for an exemption of up to 3 months from certain security training schedule requirements for the Vermont Yankee Nuclear Power Station.

DATES: The exemption was issued on July 31, 2018.

ADDRESSES: Please refer to Docket ID NRC-2018-0179 when contacting the NRC about the availability of information regarding this document. You may obtain publicly-available information related to this document using any of the following methods:

• Federal Rulemaking Website: Go to http://www.regulations.gov and search for Docket ID NRC-2018-0179. Address questions about NRC dockets to Jennifer Borges; telephone: 301-287-9127; email: Jennifer.Borges@nrc.gov. For technical questions, contact the individual listed in the FOR FURTHER INFORMATION CONTACT section of this

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Jack D. Parrott, Office of Nuclear Material Safety and Safeguards, U.S. Nuclear Regulatory Commission, Washington, DC 20555-0001; telephone: 301-415-6634, email: Jack.Parrott@nrc.gov.

SUPPLEMENTARY INFORMATION: The text of the exemption is attached.

Dated at Rockville, Maryland, this 16th day of August 2018.
For the Nuclear Regulatory Commission.
Bruce A. Watson,
Chief, Reactor Decommissioning Branch, Division of Decommissioning, Uranium Recovery and Waste Programs, Office of Nuclear Material Safety and Safeguards.

Attachment—Exemption

UNITED STATES OF AMERICA

NUCLEAR REGULATORY COMMISSION ENTERGY NUCLEAR OPERATIONS, INC.; VERMONT YANKEE NUCLEAR POWER STATION

DOCKET NOS. 50-271 AND 72-59

EXEMPTION

1.0 BACKGROUND

Entergy Nuclear Operations, Inc. (ENO or the licensee) is the holder of Facility Operating License No. DPR-28 for the Vermont Yankee Nuclear Power Station (VY) in Windham County, Vermont. The license provides, among other things, that the facility is subject to all rules, regulations, and orders of the Nuclear Regulatory Commission (NRC or the Commission) now or hereafter in effect. The facility now consists of a permanently shut down and decommissioning boiling water reactor and associated Independent Spent Fuel Storage Installation (ISFSI).

The licensee is in the process of transferring the remaining spent fuel from the spent fuel pool into dry storage canisters that are then placed in concrete overpacks and stored on the ISFSI pad. Concurrently, the licensee received, by letter dated July 25, 2018 (Agencywide Documents Access and Management System (ADAMS) Accession No. ML18165A423), NRC approval of a license amendment for implementation of a revised Physical Security Plan (PSP) to meet the security requirements of an ISFSI-only configuration for spent fuel storage at the site. The effective date of the ISFSI-only PSP approval is the date on which the licensee notifies the NRC in writing that all of the spent nuclear fuel assemblies have been transferred out of the spent fuel pool and have been placed in dry storage within the ISFSI. Implementation of the ISFSI-only PSP shall be within 90 days of the effective date of the approval of the amendment.

2.0 REQUEST/ACTION

By letter dated May 24, 2018, and pursuant to 10 CFR 73.5, “Specific Exemptions,” ENO requested an exemption from certain schedule requirements of 10 CFR part 73, Appendix B, Section VI.A.7, which covers training and qualification plans for personnel performing security program duties at nuclear power reactors (ADAMS Accession No. ML18150A337). Attachment 2 to the request letter contains security-related information and, accordingly, is not available to the public.

10 CFR part 73, Appendix B, Section VI.A.7, states—

Annual requirements must be scheduled at a nominal twelve (12) month periodicity. Annual requirements may be completed up to three (3) months before or three (3) months after the scheduled date. However, the next annual training must be scheduled twelve (12) months from the previously scheduled date rather than the date the training was actually completed.

The scheduled dates for the completion of specified 2018 annual training for certain weapons training and security exercises at VY were May 9, 2018, and June 6, 2018. Consequently, the deadlines for completing these activities (taking into account the 3-month allowance provided in 10 CFR part 73, Appendix B, Section VI.A.7) are August 7, 2018, and September 4, 2018.

This exemption was requested to allow the completion date for specified annual training for certain weapons training and security exercises to be no later than November 7, 2018, which would be a 3-month extension from the current due date based on the regulation referenced above. The express purpose of the request is to move the completion due date for the specified annual training past the expected implementation date of the NRC-approved revision of the current PSP to an ISFSI-only PSP. Implementation of the ISFSI-only PSP will be performed after the remaining spent fuel is loaded and placed on the ISFSI pad. Because specific security annual training is not required for sites with an ISFSI-only configuration for spent nuclear fuel, this exemption would allow the licensee to delay completion of the training until such time as it is no longer required.

The required implementation date for the ISFSI-only PSP is within 90 days from the date that the licensee notifies the NRC in writing that all spent nuclear fuel assemblies have been transferred out of the spent fuel pool and have been placed in dry storage within the ISFSI. The expected completion date for the transfer to dry fuel storage is August 2018. As described in spent fuel cask registration letters dated May 31, 2018 (ADAMS Accession No. ML18156A132) and June 12, 2018 (ADAMS Accession No. ML18172A127), the licensee has loaded four MPC-68M multi-purpose canisters between May 5, 2018, and June 5, 2018, and those canisters in turn have been loaded into HI-STORM 100S Version B overpacks and placed on the ISFSI pad. Therefore, the current loading campaign is capable of loading and placing on the ISFSI pad approximately one canister per week. As of June 12, 2018, there were 9 canisters left to be loaded and placed on the ISFSI pad. Therefore, the completion of loading spent fuel into canisters and placing them on the ISFSI pad is considered achievable by the end of August 2018. With this exemption, the licensee will not be in violation of the training schedule requirements of 10 CFR part 73, Appendix B, Section VI.A.7, provided that, prior to November 7, 2018, the licensee either implements the ISFSI-only PSP, or completes the noted specific security training.

3.0 DISCUSSION OF EXEMPTION FROM 10 CFR PART 73, APPENDIX B, SECTION VI.A.7 TRAINING SCHEDULE REQUIREMENTS

The NRC approval of this exemption would allow an extension until November 7, 2018, for certain annual training required by 10 CFR part 73, Appendix B, Section VI.A.7 (i.e., weapons training and security exercises that are specifically referenced in Attachment 2 to the licensee's exemption request (security-related information)). Pursuant to 10 CFR 73.5, the Commission may, upon application by any interested person or upon its own initiative, grant exemptions from the requirements of 10 CFR part 73 when the exemptions are authorized by law, and will not endanger life or property or the common defense and security, and are otherwise in the public interest.

Authorized by Law

As explained in this SER, the proposed exemption will not endanger life or property, nor the common defense and security, and is otherwise in the public interest. Issuance of this exemption is consistent with the Atomic Energy Act of 1954, as amended, and not otherwise inconsistent with the NRC's regulations or other applicable laws. Therefore, issuance of the exemption is authorized by law.

Will Not Endanger Life or Property or the Common Defense and Security

Granting of the proposed exemption will allow the completion dates of the specified annual training and qualification activities to be extended beyond the scheduled completion dates specified in 10 CFR part 73, Appendix B Section VI.A.7. The exemption does not affect the requirements for other periodic, specifically quarterly and trimester, security training activities that will continue and will provide training opportunities which ensure the proficiency of the training staff during the limited time affected by the schedule change. The proposed exemption would not significantly reduce the measures currently in place to protect against radiological sabotage, theft or diversion, or significantly reduce the overall effectiveness of the PSP, Training and Qualification Plan, or Safeguards Contingency Plan. Therefore, granting the exemption will not endanger life or property or the common defense and security.

Is Otherwise in the Public Interest

Completing the annual training by the dates required by 10 CFR part 73, Appendix B, Section VI.A.7 would divert site personnel from the role of providing support and oversight of the ongoing dry fuel storage loading campaign with little benefit considering the short amount of time that the remaining spent fuel would be in the spent fuel pool after the current due date for the training. Allowing the ongoing cask loading campaign to continue without interruptions imposed by the annual training would support safety and efficiency for those activities and more expeditious completion of the transfer of irradiated fuel out of the spent fuel pool. Granting an exemption from the annual training would also avoid diverting site resources from providing support for ongoing efforts to complete construction, testing, training, and implementation of the features associated with the ISFSI-only PSP.

The proposed exemption would allow annual training to be rescheduled beyond the current schedule date for completing the transfer of irradiated fuel from the spent fuel pool to dry storage. The exemption would not reduce overall protection of the facility and stored irradiated fuel, but would maintain the current level of safety and security, and would avoid diverting site personnel attention from completing the transfer of spent fuel to dry storage. Therefore, the proposed exemption is in the public interest.

4.0 ENVIRONMENTAL CONSIDERATIONS

Under 10 CFR 51.22(c)(25), granting of an exemption from the requirements of any regulation of Chapter I falls within a categorical exclusion to the environmental review requirements of Part 51, provided that (i) there is no significant hazards consideration; (ii) there is no significant change in the types or significant increase in the amounts of any effluents that may be released offsite; (iii) there is no significant increase in individual or cumulative public or occupational radiation exposure; (iv) there is no significant construction impact; (v) there is no significant increase in the potential for or consequences from radiological accidents; and (vi) the requirements from which an exemption is sought are among those identified in 10 CFR 51.22(c)(25)(vi).

The Director, Division of Decommissioning, Uranium Recovery, and Waste Programs, has determined that approval of the exemption request involves no significant hazards consideration because allowing the licensee to have an exemption of up to 3 months from certain schedule requirements of 10 CFR part 73, Appendix B, “General Criteria for Security Personnel,” for VY does not (1) involve a significant increase in the probability or consequences of an accident previously evaluated; or (2) create the possibility of a new or different kind of accident from any accident previously evaluated; or (3) involve a significant reduction in a margin of safety. The exemption from certain schedule requirements of 10 CFR part 73, Appendix B, Section VI.A.7 is unrelated to any operational restriction. Accordingly, there is no significant change in the types or significant increase in the amounts of any effluents that may be released offsite; and no significant increase in individual or cumulative public or occupational radiation exposure. The exempted regulation is not associated with construction, so there is no significant construction impact. The exempted regulation does not concern the source term (i.e., potential amount of radiation in an accident), nor mitigation. Thus, there is no significant increase in the potential for or consequences from radiological accidents. The requirements from which the exemption is sought fall within categories identified in 10 CFR 51.22(c)(25)(vi), specifically scheduling requirements, as well as education, weapons training, training exercises, qualification, requalification or other employment suitability requirements.

Therefore, pursuant to 10 CFR 51.22(b) and 51.22(c)(25), no environmental impact statement or environmental assessment need be prepared in connection with the approval of this exemption request.

5.0 CONCLUSION FOR 10 CFR PART 73, APPENDIX B, SECTION VI.A.7 SCHEDULE EXEMPTION REQUEST

The NRC staff has reviewed the licensee's submittals and concludes that the licensee has justified its request for an extension of certain 10 CFR part 73, Appendix B, Section VI.A.7 security training schedules to November 7, 2018.

Accordingly, the NRC has determined that pursuant to 10 CFR 73.5, “Specific exemptions,” an exemption from certain 10 CFR part 73, Appendix B, Section VI.A.7 security training schedule requirements is authorized by law and will not endanger life or property or the common defense and security, and is otherwise in the public interest. The NRC hereby grants the requested exemption.

The NRC staff has determined that efficiencies will be gained if the NRC-approved ISFSI-only PSP is implemented within 90 days of the completion of removal of spent fuel from the VY spent fuel pool. The NRC has concluded that approving the licensee's exemption request is in the best interest of protecting the public health and safety through the efficiencies gained by not having to perform the currently scheduled annual security training shortly before the removal of spent fuel from the spent fuel pool and placement in the ISFSI, which would make the scheduled training moot.

This exemption expires on November 7, 2018. By that time, the licensee is required to have implemented its ISFSI-only PSP, or be in full compliance with the security training schedule requirements of 10 CFR part 73, Appendix B, Section VI.A.7.

Pursuant to 10 CFR 51.22(c)(25), NRC has determined that granting of an exemption from the requirements of 10 CFR part 73, Appendix B, Section VI.A.7 falls within a categorical exclusion to the environmental review requirements of Part 51.

This exemption is effective upon issuance.

Dated at Rockville, Maryland, this 31st day of July 2018.

For The Nuclear Regulatory Commission

Andrea Kock,

Acting Director, Division of Decommissioning, Uranium Recovery and Waste Programs, Office of Nuclear Material Safety and Safeguards.

[FR Doc. 2018-17988 Filed 8-20-18; 8:45 am]

BILLING CODE 7590-01-P